GENERAL SERVICES ADMINISTRATION

[PBS-N03]

Extension of Comment Period of the Draft Environmental Assessment and Wetland Involvement for the Transformation of Facilities and Infrastructure for the Non-Nuclear Production Activities Conducted at the National Nuclear Security Administration's Kansas City Plant at Kansas City, MO

AGENCY: General Services Administration and National Nuclear Security Administration, Department of Energy.

ACTION: Notice of extension of comment period.

SUMMARY: On Monday, December 10, 2007, the General Services Administration (GSA) and National Nuclear Security Administration (NNSA), Department of Energy (DOE) published a Notice of Availability of the Draft Environmental Assessment for the Transformation of Facilities and Infrastructure for the Non-Nuclear Production Activities conducted at the National Nuclear Security Administration's Kansas City Plant at Kansas City, Missouri, (72 FR 69690) and announced a public comment period ending Monday, January 14, 2008. In the interest of maximizing public participation, GSA and NNSA are extending the public comment period until Wednesday, January 30, 2008.

DATES: Comments should be submitted to GSA no later than Wednesday, January 30, 2008. Comments postmarked after this date will be considered to the extent practicable.

ADDRESSES: Further information, including an electronic copy of the draft EA and other supporting NEPA documents, may be found on the following Web site, http://www.gsa.gov/kansascityplant.

Comments, or requests for copies of the draft EA, should be sent to Carlos Salazar, General Services Administration, 1500 East Bannister Road, Room 2191 (6PTA), Kansas City, MO 64131. Comments may also be e-mailed to NNSA-KC@gsa.gov.

Requests for copies of the draft EA may also be made by calling 816-823-2305 or via e-mail to NNSA-KC@gsa.gov.

Carlos Salazar,
Regional NEPA Coordinator, GSA Public Buildings Service, Heartland Region.

[FR Doc. E8-797 Filed 1-16-08; 8:45 am]

BILLING CODE 6820-14-P